NATIONAL SCIENCE FOUNDATION

Agency Information Collection Activities: Comment Request; Graduate Research Fellowships Program

AGENCY: National Science Foundation.

ACTION: Notice.

SUMMARY: The National Science Foundation (NSF) is announcing plans to renew this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by July 10, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Graduate Research Fellowship Program.

OMB Number: 3145-0023.

Expiration Date of Approval: September 30, 2020.

Type of Request: Revision to and extension of approval of an information collection.

Abstract: Section 10 of the National Science Foundation Act of 1950 (42 U.S.C. 1861 et seq.), as amended, states that “The Foundation is authorized to award, within the limits of funds made available . . . scholarships and graduate fellowships for scientific study or scientific work in the mathematical, physical, biological, engineering, social, and other sciences at accredited U.S. institutions selected by the recipient of such aid, for stated periods of time.”

The Graduate Research Fellowship Program has two goals:

• To select, recognize, and financially support, early in their careers, individuals with the demonstrated potential to be high achieving scientists and engineers;

• To broaden participation in science and engineering of underrepresented groups, including women, minorities, persons with disabilities, and veterans.

The list of GRFP Awardees recognized by the Foundation may be found via FastLane through the NSF website: https://www.fastlane.nsf.gov/grfp/AwardeeList.do?method=loadAwardeeList. The GRF Program is described in the Solicitation available at: https://www.nsf.gov/publications/pub_summ.jsp?ods_key=nsf19590&org=NSF.

Estimate of Burden: This is an annual application program providing three years of support to individuals, usable over a five-year fellowship period. The application deadlines are in late October. It is estimated that each submission is averaged to be 16 hours per respondent, which includes three references (on average) for each application. It is estimated that it takes two hours per reference for each applicant.

The clearance request also includes two forms—the NSF-349, Fellowship Starting Certificate, and the NSF-453, the Fellowship Termination Certificate and Grant Fiscal Report. These are completed by program Fellows at the beginning and the end of their fellowship.

Respondents: Individuals.

Estimated Number of Responses: 15,000.

Estimated Total Annual Burden on Respondents: 225,000 hours.

Frequency of Responses: Annually.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: May 6, 2020.
Suzanne H. Plimpton,
Reports Clearance Officer, National Science Foundation.

[FR Doc. 2020-09995 Filed 5-8-20; 8:45 am]

BILLING CODE 7555-01-P